DEPARTMENT OF THE INTERIOR

National Park Service

Notice of Inventory Completion for Native American Human Remains and Associated Funerary Objects in the Possession of the Anthropological Studies Center (ASC), Archaeological Collections Facility, Sonoma State University, Rohnert Park, CA, and in Control of the California Department of Transportation (CALTRANS)

AGENCY: National Park Service.

ACTION: Notice.

Notice is hereby given in accordance with provisions of the Native American Graves Protection and Repatriation Act (NAGPRA), 43 CFR 10.9, of the completion of an inventory of human remains and associated funerary objects in possession of the Anthropological Studies Center (ASC), Archaeological Collections Facility, Sonoma State University, Rohnert Park, CA; and in the control of the California Department of Transportation (CALTRANS), Sacramento, CA.

This notice is being published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by the Anthropological Studies Center, Archaeological Collections Facility, Sonoma State University professional staff in consultation with representatives of the Cortina Indian Rancheria of Wintun Indians of California.

In 1974, human remains representing two individuals were recovered from the Suscol Site (CA-NAP-15/H) in Napa County, CA by Thomas F. King, during test excavations along Highway 29. No known individuals were identified. No associated funerary objects are present.

In 1978 and 1979, human remains representing five individuals were recovered from the Suscol Site (CA-NAP-15/H) in Napa County, CA by Stradford and Schwaderer, during test excavations along Highway 29. No known individuals were identified. The two associated funerary objects found with individual one (accession number 79-14) are an obsidian biface and a groundstone fragment. The 31 associated funerary objects found with individuals two through four (accession number 79-28) are glass trade beads.

Based on archeological evidence, continuity of occupation, and ethnographic accounts, these individuals have been identified as Native American. The major occupation of CA-NAP-15/H occurred during the historic period, mainly during the early 19th Century. Based on point typologies and bead typologies uncovered during previous excavations of burial matrixes, the human remains have been dated to the historic period. Geographical, ethnographic, linguistic, and historical evidence indicates that the Suscol site is located within the traditional Patwin territory.

Based on the above-mentioned information, officials of the Anthropological Studies Center, Archaeological Collections Facility, Sonoma State University have determined that, pursuant to 43 CFR 10.2 (d)(1), the human remains listed above represent the physical remains of seven individuals of Native American ancestry. Officials of the Anthropological Studies Center, Archaeological Collections Facility, Sonoma State University also have determined that, pursuant to 43 CFR 10.2(d)(2), the 33 objects listed above are reasonably believed to have been placed with or near individual human remains at the time of death or later as part of the death rite or ceremony. Lastly, officials of the Anthropological Studies Center, Archaeological Collections Facility, Sonoma State University have determined that, pursuant to 43 CFR 10.2(e), there is a relationship of shared group identity which can be reasonably traced between these Native American human remains and associated funerary objects and the Cortina Band of Wintun Indians, California.

This notice has been sent to officials of the Cortina Band of Wintun Indians, California. Representatives of any other Indian tribe that believes itself to be culturally affiliated with these human remains and associated funerary objects should contact Tina Biorn, Environmental Program, Department of Transportation, P.O. Box 942874 (M.S.27), Sacramento, CA 94274-0001, telephone (916) 653-0013, before December 13, 2000. Repatriation of the human remains and associated funerary objects to the Cortina Band of Wintun Indians, California may begin after that date if no additional claimants come forward.

Dated: October 31, 2000.
John Robbins,
Assistant Director, Cultural Resources Stewardship and Partnerships.

[FR Doc. 00-29001 Filed 11-9-00; 8:45 am]

BILLING CODE 4310-70-F